DEPARTMENT OF ENERGY

Federal Energy Regulatory Commission

[Project No. 2350-025]

Georgia Power Company; Notice of Comment Period Extension

On January 24, 2019, the Commission issued a notice through the FERC eLibrary system ¹ setting February 25, 2019, as the end of the formal period to file comments, motions to intervene, or protests on the application for surrender of license for Georgia Power Company's Riverview Hydroelectric Project No. 2350, located on the Chattahoochee River in Chambers County, Alabama and Harris County, Georgia. Due to the funding lapse at certain federal agencies between December 22, 2018 and January 25, 2019, the Commission is extending the comment period until March 4, 2019.

¹ Go to https://elibrary.ferc.gov/idmws/search/intermediate.asp?link_file=yes&doclist=14738701 and select the file link to view the document.

Dated: February 14, 2019.
Kimberly D. Bose,
Secretary.

[FR Doc. 2019-03330 Filed 2-26-19; 8:45 am]

BILLING CODE 6717-01-P